INTERNATIONAL TRADE COMMISSION

[Inv. No. 337-TA-836]

Certain Consumer Electronics and Display Devices and Products Containing Same; Institution of Investigation Pursuant to 19 U.S.C. 1337

AGENCY: U.S. International Trade Commission.

ACTION: Notice.

SUMMARY: Notice is hereby given that a complaint was filed with the U.S. International Trade Commission on March 6, 2012, under section 337 of the Tariff Act of 1930, 19 U.S.C. 1337, on behalf of Graphics Properties Holdings, Inc. of New Rochelle, New York. The complaint alleges violations of section 337 based upon the importation into the United States, the sale for importation, and the sale within the United States after importation of certain consumer electronics and display devices and products containing same by reason of infringement of certain claims of U.S. Patent No. 6,650,327 (“the `327 patent”); U.S. Patent No. 6,816,145 (“the `145 patent”); and U.S. Patent No. 5,717,881 (“the `881 patent”). The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, and in section 210.10 of the Commission's Rules of Practice and Procedure, 19 CFR 210.10 (2011).

Scope of Investigation: Having considered the complaint, the U.S. International Trade Commission, on April 4, 2012, ordered that—

(1) Pursuant to subsection (b) of section 337 of the Tariff Act of 1930, an investigation be instituted to determine whether there is a violation of subsection (a)(1)(B) of section 337 in the importation into the United States, the sale for importation, or the sale within the United States after importation of certain consumer electronics and display devices and products containing same that infringe one or more of claims 2, 3, 5, and 6 of the `327 patent; claims 1-6, 8, 15-17, and 20 of the `145 patent; and claim 1 of the `881 patent, and whether an industry in the United States exists as required by subsection (a)(2) of section 337;

(2) Pursuant to Commission Rule 210.50(b)(1), 19 CFR 210.50(b)(1), the presiding administrative law judge shall take evidence or other information and hear arguments from the parties and other interested persons with respect to the statutory public interest factors (19 U.S.C. 1337(d)(1), (f)(1), (g)(1)), in this investigation, and provide the Commission with findings of fact and a recommended determination on this issue, except that the presiding judge shall not address assertions contained in respondents' letters of March 15 and 19, 2012 that certain types of entities are not entitled to bring actions and obtain relief under the statute;

(3) For the purpose of the investigation so instituted, the following are hereby named as parties upon which this notice of investigation shall be served:

(a) The complainant is:

Graphics Properties Holdings, Inc., 56 Harrison St., Suite 505, New Rochelle, NY 10801-6555

(b) The respondents are the following entities alleged to be in violation of section 337, and are the parties upon which the complaint is to be served:

Research In Motion Ltd., 295 Phillip Street, Waterloo, Ontario N2L 3W8, Canada

Research In Motion Corp., 122 W. John Carpenter Parkway, Suite 430, Irving, TX 75039

HTC Corporation, 23 Xinghua Road, Taoyuan, 330, Taiwan

HTC America, Inc., 13920 SE Eastgate Way, Suite 400, Bellevue, WA 98005

LG Electronics, Inc., LG Twin Towers, 20, Yoido-dong, Youngdungpo-gu, Seoul, 157-721, South Korea

LG Electronics U.S.A., Inc., 1000 Sylvan Avenue, Englewood Cliffs, NJ 07632

LG Electronics MobileComm U.S.A. Inc., 10101 Old Grove Road, San Diego, CA 92131

Apple Inc., 1 Infinite Loop, Cupertino, CA 95014

Samsung Electronics Co., Ltd., 1320-10, Seocho 2-dong Seocho-gu, Seoul, South Korea

Samsung Electronics America, Inc., 105 Challenger Road, Ridgefield Park, NJ 07660

Samsung Telecommunications, America, L.L.C., 1301 East Lookout Drive, Richardson, TX 75082

Sony Corporation, 1-7-1 Konan, Minato-ku, Tokyo 108-0075, Japan

Sony Corporation of America, 550 Madison Avenue, New York, NY 10022-3211

Sony Electronics, Inc., 16530 Via Esprillo, San Diego, CA 92127

Sony Ericsson Mobile, Communications AB, Nya Vattentornet, Lund, 2211 88, Sweden

Sony Ericsson Mobile, Communications (USA) Inc., 3333 Piedmont Road, Suite 600, Atlanta, GA 30305

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By Order of the Commission.
Issued: April 4, 2012.
James R. Holbein,
Secretary to the Commission.

[FR Doc. 2012-8540 Filed 4-9-12; 8:45 am]

BILLING CODE 7020-02-P